DEPARTMENT OF TRANSPORTATION

Federal Motor Carrier Safety Administration

[Docket No. FMCSA-2004-17969]

Notice of Request for Comments on Renewing Approval for an Information Collection: OMB Control No. 2126-0014 (Transportation of Hazardous Materials, Highway Routing)

AGENCY: Federal Motor Carrier Safety Administration (FMCSA), DOT.

ACTION: Notice; request for comments.

SUMMARY: The FMCSA announces that the Information Collection Request (ICR) described in this notice is being sent to the Office of Management and Budget (OMB) for review and approval. This information collection requires States and Indian tribes to identify designated/restricted highway routes and restrictions or limitations affecting how motor carriers may transport certain hazardous materials on the highway. The Federal Register notice announcing a 60-day comment period on this information collection was published on April 13, 2004 (69 FR 19610). We are required to send ICRs to OMB under the Paperwork Reduction Act.

DATES: Please submit comments by September 20, 2004.

ADDRESSES: Mail or hand deliver comments to the U.S. Department of Transportation, Dockets Management Facility, Room PL-401, 400 Seventh Street, SW., Washington, DC 20590, or submit electronically at http://dmses.dot.gov/submit. Be sure to include the docket number appearing in the heading of this document on your comment. All comments received will be available for examination and copying at the above address from 9 a.m. to 5 p.m., e.t., Monday through Friday, except Federal holidays. If you would like to be notified when your comment is received, you must include a self-addressed, stamped postcard or you may print the acknowledgment page that appears after submitting comments electronically.

FOR FURTHER INFORMATION CONTACT: Mr. Michael Johnsen (202-366-4111), Hazardous Materials Division (MC-ECH), Federal Motor Carrier Safety Administration, U.S. Department of Transportation, 400 Seventh Street, SW., Washington, DC 20590. Office hours are from 7:30 a.m. to 4 p.m., EST., Monday through Friday, except Federal holidays.

SUPPLEMENTARY INFORMATION: Title: Transportation of Hazardous Materials; Highway Routing.

OMB Control Number: 2126-0014.

Background: The data for the Transportation of Hazardous Materials; Highway Routing designations are collected under authority of 49 U.S.C. 5112 and 5125. That authority places responsibility on the Secretary of Transportation (Secretary) to specify and regulate standards for establishing, maintaining, and enforcing routing designations.

Under 49 CFR 397.73, the Administrator has the authority to request that each State and Indian tribe, through its routing agency, provide information identifying hazardous materials routing designations within their respective jurisdictions. That information is collected and consolidated by the FMCSA and published annually in whole, or as updates, in the Federal Register.

Respondents: The reporting burden is shared by the 50 States, the District of Columbia, Puerto Rico, American Samoa, Guam, Northern Marianas, and the Virgin Islands.

Average Burden Per Response: 15 minutes.

Estimated Total Annual Burden: The annual reporting burden is estimated to be 13 hours, calculated as follows: (53 respondents × 1 response × 15 minutes/60 minutes = 13.25 hours, rounded to 13 hours).

Authority: The Paperwork Reduction Act of 1995, 44 U.S.C. Chapter 35, as amended; 49 U.S.C. 5112 and 5125; and 49 CFR 1.73 and 397.73.

Issued on: August 10, 2004.
Annette M. Sandberg,
Administrator.

[FR Doc. 04-19156 Filed 8-19-04; 8:45 am]

BILLING CODE 4910-EX-P